COMMITTEE FOR PURCHASE FROM PEOPLE WHO ARE BLIND OR SEVERELY DISABLED

Procurement List; Proposed Additions Correction

AGENCY: Committee for Purchase From People Who Are Blind or Severely Disabled.

ACTION: Proposed Additions to Procurement List. (Correction).

A correction is made to the Federal Register published by the Committee in proposing to add to the Procurement List products and services on December 18, 2009. The correct date that comments should be received is January 17, 2010.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

Patricia Briscoe,
Deputy Director, Business Operations.

[FR Doc. E9-30153 Filed 12-17-09; 8:45 am]

BILLING CODE 6353-01-P